ENVIRONMENTAL PROTECTION AGENCY

[FRL-9135-1]

Clean Water Act Section 303(d): Final Agency Action on Seven Total Maximum Daily Loads (TMDLs) in Louisiana

AGENCY: Environmental Protection Agency (EPA).

ACTION: Notice of availability.

SUMMARY: This notice announces final agency action on seven TMDLs prepared by EPA Region 6 for waters listed in Louisiana's Atchafalaya River Basin, under Section 303(d) of the Clean Water Act (CWA). Documents from the administrative record file for the seven TMDLs, including TMDL calculations and responses to comments, may be viewed at http://www.epa.gov/region6/water/npdes/tmdl/index.htm. The administrative record file may be examined by calling or writing Ms. Diane Smith at the address below. Please contact Ms. Smith to schedule an inspection.

FOR FURTHER INFORMATION CONTACT: Diane Smith, Environmental Protection Specialist, Water Quality Protection Division, U.S. EPA Region 6, 1445 Ross Avenue, Dallas, TX 75202-2733, (214) 665-2145.

SUPPLEMENTARY INFORMATION: In 1996, two Louisiana environmental groups, the Sierra Club and Louisiana Environmental Action Network (plaintiffs), filed a lawsuit in Federal Court against the EPA, styled Sierra Club, et al. v. Clifford et al., No. 96-0527, (E.D. La.). Among other claims, plaintiffs alleged that EPA failed to establish Louisiana TMDLs in a timely manner. EPA established seven of these TMDLs pursuant to a consent decree entered in this lawsuit.

EPA Takes Final Agency Action on Seven TMDLs

By this notice EPA is taking final agency action on the following seven TMDLs for waters located within the Louisiana Atchafalaya River Basin:

Subsegment | Waterbody name | Pollutant
010301 | West Atchafalaya Basin Floodway | Mercury and Dissolved Oxygen.
010401 | East Atchafalaya Basin and Morganza Floodway South to Interstate 10 Canal | Mercury.
010501 | Lower Atchafalaya Basin Floodway | Mercury.
010601 | Crow Bayou, Bayou Blue, and Tributaries | Chloride, Sulfate, and TDS.

EPA requested the public to provide EPA with any significant data or information that might impact the seven TMDLs in the Federal Register Notice: volume 74, number 160, pages 42068 and 42069 (August 20, 2009). The comments which were received, EPA's response to comments, as well as the TMDLs may be found at http://www.epa.gov/region6/water/npdes/tmdl/index.htm.

Dated: March 31, 2010.
Miguel I. Flores,
Director, Water Quality Protection Division, EPA Region 6.

[FR Doc. 2010-8013 Filed 4-7-10; 8:45 am]

BILLING CODE 6560-50-P